DEPARTMENT OF AGRICULTURE

Forest Service

Tri-County Advisory Committee Meeting

AGENCY: Forest Service, USDA.

ACTION: Notice of meeting.

SUMMARY: The Tri-County Resource Advisory Committee (RAC) will meet on Thursday, May 21, 2009, from 5 p.m. until 9 p.m., in Deer Lodge, Montana. The purpose of the meeting is to review funding proposals for Title II funding.

DATES: Thursday, May 21, 2009, from 5 p.m. until 9 p.m.

ADDRESSES: The meeting will be held at the USDA building located 1002 Hollenback Road, Deer Lodge, Montana (MT 59722).

FOR FURTHER INFORMATION CONTACT: Patty Bates, Committee Coordinator, Beaverhead-Deerlodge National Forest, 420 Barrett Road, Dillon, MT 59725 (406) 683-3979; e-mail pbates@fs.fed.us.

SUPPLEMENTARY INFORMATION: Agenda items to be covered include: (1) Review of project proposals submitted for funding under Title II of the Secure Rural Schools Act; (2) recommendations to the Designated Federal Officer for funding levels; (3) review of next meeting purpose, location, and date; (4) and receive public comment. The meeting is open to the public. Public input opportunity will be provided and individuals will have the opportunity to address the Committee at that time.

Dated: April 21, 2009.
M. Earl Stewart,
Designated Federal Official.

[FR Doc. E9-9616 Filed 4-27-09; 8:45 am]

BILLING CODE 3410-11-M